SOCIAL SECURITY ADMINISTRATION

Agency Information Collection Activities: Proposed Request and Comment Request

The Social Security Administration (SSA) publishes a list of information collection packages that will require clearance by the Office of Management and Budget (OMB) in compliance with P.L. 104-13 effective October 1, 1995, The Paperwork Reduction Act of 1995. The information collection packages that may be included in this notice are for new information collections, revisions to OMB-approved information collections and extensions (no change) of OMB-approved information collections.

SSA is soliciting comments on the accuracy of the agency's burden estimate; the need for the information; its practical utility; ways to enhance its quality, utility and clarity; and on ways to minimize burden on respondents, including the use of automated collection techniques or other forms of information technology. Written comments and recommendations regarding the information collection(s) should be submitted to the OMB Desk Officer and the SSA Reports Clearance Officer at the following addresses: (OMB) Office of Management and Budget, Attn: Desk Officer for SSA, New Executive Office Building, Room 10235, 725 17th St., NW., Washington, DC 20503; (SSA) Social Security Administration, DCFAM, Attn: Reports Clearance Officer, 1-A-21 Operations Bldg., 6401 Security Blvd., Baltimore, MD 21235.

I. The information collection listed below is pending at SSA and will be submitted to OMB within 60 days from the date of this notice. Therefore, your comments should be submitted to SSA within 60 days from the date of this publication. You can obtain a copy of the collection instrument by calling the SSA Reports Clearance Officer at 410-965-0454, or by writing to the address listed above.

Disability Report—Adult—0960-0579. The Social Security Act requires claimants to furnish medical and other evidence to prove they are disabled. Applicants for disability benefits will complete form SSA-3368. The information will be used, in conjunction with other evidence, by State DDSs to develop medical evidence, to assess the alleged disability, and to make a disability determination. The respondents are applicants for title II and title XVI disability benefits.

Type of Request: Revision of an OMB-approved information collection.

Number of Respondents: 2,116,667.

Frequency of Response: 1.

Average Burden Per Response: 60 minutes.

Estimated Annual Burden: 2,116,667 hours.

II. The information collections listed below have been submitted to OMB for clearance. Your comments on the information collections would be most useful if received by OMB and SSA within 30 days from the date of this publication. You can obtain a copy of the OMB clearance package by calling the SSA Reports Clearance Officer on (410) 965-0454, or by writing to the address listed above.

1. Statement Regarding Date of Birth and Citizenship—0960-0016. The Social Security Administration (SSA) collects information on Form SSA-702 when preferred or other evidence is not available to prove age for an individual applying for Social Security benefits. The respondents are applicants for one or more Social Security benefits who need to establish their dates of birth as a factor of entitlement or U.S. citizenship as a factor of payment.

Type of Request: Extension of an OMB-Approved Information Collection.

Number of Respondents: 1,200.

Frequency of Response: 1.

Average Burden Per Response: 10 minutes.

Estimated Annual Burden: 200 hours.

2. Self-Employment/Corporate Officer Questionnaire—0960-0487. Form SSA-4184 is used by SSA to develop earnings and corroborate a claimant's allegations regarding retirement when the claimant is self-employed or a corporate officer. The information collected is used to determine the benefit amount. The respondents are self-employed individuals and corporate officers.

Type of Request: Extension of an OMB-Approved Information Collection.

Number of Respondents: 20,000.

Frequency of Response: 1.

Average Burden Per Response: 20 minutes.

Estimated Annual Burden: 6,667 hours.

3. Disability Report Update—0960-0511. Form SSA-455 or SSA-455-OCR-SM is used by SSA to collect information when the continuing disability review (CDR) diary of a recipient of SSA-administered benefits, based on disability, has matured or there is an indication of possible medical improvement (e.g., a report of return to work or a physician's clearance for work). The information collected from beneficiaries is reviewed by technicians, including specialists in the evaluation of work and earnings and in disability adjudication, to determine if a full medical CDR should be processed or deferred to a later date. The respondents are recipients of benefits, based on disability, under titles II and/or XVI of the Social Security Act, as amended.

Type of Request: Extension of an OMB-Approved Information Collection.

Number of Respondents: 702,000.

Frequency of Response: 1.

Average Burden Per Response: 15 minutes.

Estimated Annual Burden: 175,500 hours.

4. Farm Arrangement Questionnaire—0960-0064. SSA needs the information collected on Form SSA-7157-F4 to determine if farm rental income may be considered self-employment income for Social Security coverage purposes. The respondents are individuals alleging self-employment income from renting land for farming activities.

Type of Request: Extension of an OMB-Approved Information Collection.

Number of Respondents: 38,000.

Frequency of Response: 1.

Average Burden Per Response: 30 minutes.

Estimated Annual Burden: 19,000 hours.

5. Request for Reconsideration—Disability Cessation—0960-0349. Form SSA-789 collects information used by SSA to schedule disability hearings and to develop additional evidence/information for claimants whose disability is found to have ceased, not to have existed, or is no longer disabling. The information will also be used to determine if an interpreter is needed for the disability hearing. The respondents are claimants under titles II & XVI of the Social Security Act who wish to request reconsideration of disability cessation.

Type of Request: Revision of an OMB-approved Information Collection.

Number of Respondents: 49,000.

Frequency of Response: 1.

Average Burden Per Response: 12-15 minutes.

Estimated Annual Burden: 10,290 hours.

Dated: June 28, 2002.
Nicholas E. Tagliareni,
Acting Reports Clearance Officer, Social Security Administration.

[FR Doc. 02-17211 Filed 7-9-02; 8:45 am]

BILLING CODE 4191-02-P